Proclamation 8810 of May 1, 2012

Law Day, U.S.A., 2012

By the President of the United States of America

A Proclamation

When President Dwight D. Eisenhower established Law Day in 1958, he proclaimed it “fitting that the people of this Nation should remember with pride and vigilantly guard the great heritage of liberty, justice, and equality under law which our forefathers bequeathed to us.” Today, we celebrate that enduring legacy and renew our commitment to a democracy sustained by the rule of law.

This year’s Law Day theme, “No Courts, No Justice, No Freedom,” recalls the historic role our courts have played in protecting the fundamental rights and liberties of all Americans. Our courts are the guarantors of civil justice, social order, and public safety, and we must do everything we can to enable their critical work. The courthouse doors must be open and the necessary services must be in place to allow all litigants, judges, and juries to operate efficiently. Likewise, we must ensure that access to justice is not an abstract theory, but a concrete commitment that delivers the promise of counsel and assistance for all who seek it.

Today, let us reflect upon the role generations of legal and judicial professionals have played in building an America worthy of the ideals that inspired its founding. The timeless principles of equal protection and due process remain at the heart of our democracy, and on Law Day, we recommit to upholding them not just in our time, but for all time.

NOW, THEREFORE, I, BARACK OBAMA, President of the United States of America, in accordance with Public Law 87-20, as amended, do hereby proclaim May 1, 2012, as Law Day, U.S.A. I call upon all Americans to acknowledge the importance of our Nation’s legal and judicial systems with appropriate ceremonies and activities, and to display the flag of the United States in support of this national observance.

IN WITNESS WHEREOF, I have hereunto set my hand this first day of May, in the year of our Lord two thousand twelve, and of the Independence of the United States of America the two hundred and thirty-sixth.

[FR Doc. 2012-11024

Filed 5-3-12; 2:00 pm]

Billing code 3295-F2-P